DEPARTMENT OF ENERGY

Amended Record of Decision for the Decommissioning of Eight Surplus Production Reactors at the Hanford Site, Richland, WA

AGENCY: Department of Energy.

ACTION: Amended Record of Decision.

SUMMARY: The Department of Energy (DOE) is amending its initial Record of Decision (ROD) issued September 16, 1993 (58 Federal Register (FR) 48509), pursuant to the Final Environmental Impact Statement on Decommissioning of Eight Surplus Production Reactors at the Hanford Site, Richland, WA (Surplus Production Reactors Final EIS) (DOE/EIS-0119F, December 1992). The Surplus Production Reactors Final EIS evaluated the potential environmental impacts, benefits and costs, and institutional and programmatic needs associated with the decommissioning of eight surplus production reactors at the Hanford Site.

These reactors (B, C, D, DR, F, H, KE and KW), operated between the years 1944 and 1971 and retired from service, have been declared surplus by DOE, and are available for decommissioning. The 1993 ROD documented DOE's decision to select safe storage followed by deferred one-piece removal for decommissioning of the eight surplus production reactors. DOE has been implementing the safe storage component of this 1993 reactor decommissioning ROD consistent with the remedial action cleanup schedules in the Hanford Federal Facility Agreement and Consent Order (Tri-Party Agreement, TPA). Through the Tri-Party Agreement, DOE continues to evaluate this decommissioning action in light of Comprehensive Environmental Response, Compensation, and Liability Act of 1980 (CERCLA) and Resource Conservation and Recovery Act of 1976 (RCRA) remediation of the past practice units in the 100 Area.

As explained in this amended ROD, DOE has decided to broaden the decommissioning approach for these eight reactors. DOE is retaining the deferred one-piece removal option, as selected in the 1993 ROD, and, based on a recently prepared Supplement Analysis, is adding an option for immediate dismantlement.

ADDRESSES: The 1992 Surplus Production Reactors Final EIS, the 1993 ROD, the Supplement Analysis, and this Amended ROD are available electronically on the DOE NEPA Web site at http://www.nepa.energy.gov/.

Copies of the documents referenced herein are available from the: Center for Environmental Management Information, P.O. Box 23769, Washington, DC 20026-3769. Telephone: 1-800-736-3282 (in Washington, DC: 202-863-5084).

FOR FURTHER INFORMATION CONTACT: For further information on the Supplement Analysis for the Surplus Production Reactors EIS, contact: Woody Russell, National Environmental Policy Act (NEPA) Compliance Officer, U.S. Department of Energy, Office of River Protection, 2440 Stevens Center, MSIN H6-60, Richland, WA 99354, Telephone: 509-373-5227.

For general information on DOE's NEPA process, contact: Ms. Carol Borgstrom, Director, Office of NEPA Policy and Compliance (GC-54), U.S. Department of Energy, 1000 Independence Avenue, SW., Washington, DC 20585. Telephone 202-586-4600, or leave a message at 1-800-472-2756.

SUPPLEMENTARY INFORMATION:

I. Background

In March 1989, DOE issued the Draft Surplus Production Reactors EIS (DOE/EIS-0119) to analyze alternatives for decommissioning eight water-cooled, graphite-moderated plutonium-production reactors, located along the Columbia River in Washington State. The eight reactors (B, C, D, DR, F, H, KE and KW), operated between the years 1944 and 1971, have been retired from service. The alternatives analyzed in the Draft EIS included the no-action, immediate one-piece removal, safe storage followed by deferred one-piece removal, safe storage followed by deferred dismantlement, and in situ decommissioning alternatives. Comments received during the public and agency review process of the Draft Surplus Production Reactors EIS did not require the Department to modify any alternatives, to develop and evaluate any new alternatives, or to supplement, improve, or modify its analyses of the decommissioning alternatives. Therefore, the Department prepared and distributed an Addendum to the Draft Surplus Production Reactors EIS in accordance with 40 CFR 1503(c). The Addendum (December 1992) stated DOE's response to issues raised by commenters and minor changes to the text. The Draft Surplus Production Reactors EIS and the Addendum constitute the Final EIS (DOE/EIS-0119F) under the provisions of the Council on Environmental Quality regulations (40 CFR 1503.4(c)). The Notice of Availability of the Final EIS was published in the Federal Register on January 15, 1993 (58 FR 4690).

As stated in the 1993 ROD, DOE regards the safe storage followed by deferred dismantlement, safe storage followed by one-piece removal, and immediate one-piece removal alternatives as equally favorable based solely on the evaluation of environmental impacts. [Note that a ninth reactor, N Reactor, was in transition regarding its defense production mission at the time of the Surplus Production Reactor EIS, and was not within the scope of the Final Surplus Production Reactor EIS or ROD. N Reactor has been retired and is undergoing deactivation under CERCLA.]

DOE uses the CERCLA process to decommission and dismantle reactors based on the joint EPA/DOE policy on reactor decommissioning signed in 1995 and incorporated into the TPA. Since the NEPA ROD in 1993, documentation has been prepared and implemented under CERCLA, resulting in placement of five of the eight surplus reactors (C, D, DR, F, and H) into interim safe storage (ISS). [ISS, or “cocooning,” is the process of demolishing all but the shield walls surrounding the reactor core, removing or stabilizing all loose contamination within the facility, and placing a new roof on the remaining structure. A single doorway in the structure is installed to provide access for surveillance and maintenance work. This doorway is welded shut, and all other openings in the shield walls are sealed to prevent intrusions and the release of radioactive materials. The facility is inspected every five years and remotely monitored at all times for changes in moisture and temperature. The reactor cores could remain in ISS for up to 75 years.] Of the remaining three reactors, B Reactor is under consideration for preservation as a national historic site. Although KE and KW Reactors have had CERCLA documentation issued that identified ISS as the preferred alternative, the KE and KW reactors are not currently in ISS. However, they are the next reactors in the queue for completion of ISS.

II. Decision

DOE has decided to broaden the decommissioning approach for these eight surplus reactors. DOE is retaining the deferred one-piece removal option, as selected in the 1993 ROD, and, based on a recently prepared Supplement Analysis, is modifying the deferred dismantlement option, as expressed in the Final EIS, by selecting an option for immediate dismantlement.

Activities to implement this decision will be conducted as CERCLA non-time critical removal actions. Specific details on unit operations of dismantlement will be addressed in the CERCLA documentation. All practicable means to avoid or minimize environmental harm have been incorporated in this decision.

III. Basis for the Decision

In accordance with CEQ NEPA regulations (40 CFR 1502.9(c)) and DOE NEPA regulations (10 CFR 1021.314(c)), DOE prepared a Supplement Analysis to determine whether a supplemental EIS or a new EIS is required. The Supplement Analysis focused on the resource areas and considerations most likely to be affected by this amended ROD; specifically, worker radiological impacts (routine operations and accident conditions), land use, historical/cultural resources, ecological resources, and cumulative impacts.

Preliminary calculations (based on near-term dismantlement of the KE reactor core and extrapolated to all eight surplus production reactors) indicate that worker dose under a dismantlement scenario for all eight reactors (approximately 80 person-rem) would be expected to be substantially less than that projected in the Final EIS (532 person-rem) for deferred dismantlement, and slightly higher than that for deferred one-piece removal (51 person-rem in the safe storage/deferred one-piece removal scenario). The actual dose rates to which workers would be exposed would be controlled by such means as remote handling, use of robotics, and the use of shielding. Worker radiation exposure would be controlled to stay within administrative and regulatory limits. Regardless, less than one latent cancer fatality (LCF) would be expected under all of the alternatives. No new bounding accident scenarios associated with reactor decommissioning have been identified; less than one LCF would be expected as a result of any postulated bounding accident.

No new land use, historical/cultural resource, or ecological resources impacts were identified in the Supplement Analysis relevant to decommissioning activities under deferred one-piece removal or immediate dismantlement.

Also, as stated in the Supplement Analysis, no short-term or long-term cumulative impacts (based on the analyses presented in DOE/EIS-0391, Draft Tank Closure and Waste Management Environmental Impact Statement) were identified relevant to decommissioning activities under one-piece removal or dismantlement.

In evaluating the viability of supporting accelerated decommissioning of surplus reactor facilities in a safe and environmentally effective manner, DOE also considered technological advances and additional information since the Final EIS and the 1993 ROD were issued. New engineering controls (such as development and deployment of robotics in an array of field applications), data collection and validation, worker safety practices, and real-time lessons learned from reactor demolition activities at Brookhaven National Laboratory all could be applied to accelerated surplus reactor decommissioning at the Hanford Site. These controls and information would enable accelerated decommissioning activities to be conducted safely.

IV. Determination

DOE has decided to broaden the decommissioning approach for the surplus reactors, retaining the deferred one-piece removal option and adding an option for immediate dismantlement. Based on the Supplement Analysis, this is not a substantial change in the proposed action relevant to environmental concerns. Further, there are no significant new circumstances or information relevant to environmental concerns and bearing on the proposed actions or their impacts described in the Surplus Production Reactors Final EIS. Therefore, DOE has determined that neither a new EIS, nor a supplement to the Surplus Production Reactors EIS, is required.

Issued in Washington, DC on July 16, 2010.
Inés R. Triay,
Assistant Secretary for Environmental Management.

[FR Doc. 2010-18079 Filed 7-22-10; 8:45 am]

BILLING CODE 6450-01-P